DEPARTMENT OF AGRICULTURE

Food Safety and Inspection Service

[Docket No. 03-031N]

FSIS Public Meeting on Pre-Harvest Food Safety Issues and Escherichia coli (E. coli) O157:H7

AGENCY: Food Safety and Inspection Service, USDA.

ACTION: Notice.

SUMMARY: The Food Safety and Inspection Service (FSIS) is announcing that it will hold a public meeting on pre-harvest food safety issues and E. coli O157:H7 on September 9, 2003, in Washington, DC. The meeting will consist of presentations on the research and practical experiences aimed at reducing E. coli O157:H7 at the livestock production level before livestock reach federally inspected plants. The meeting will also include a brief review of on-farm interventions for pathogens other than E. coli O157:H7 that have already been adopted by producers.

This meeting is one of a number of public meetings FSIS is conducting to discuss new approaches for strengthening food safety.

DATES: The public meeting is scheduled for September 9, 2003, from 8:30 a.m. to 4:30 p.m.

ADDRESSES: The meeting will be held at The Washington Plaza Hotel, 10 Thomas Circle, NW., Massachusetts Avenue, at 14th Street, Washington, DC 20005. A tentative agenda will be available in the FSIS Docket Room and on the FSIS Web site at http://www.fsis.usda.gov/. The official transcript of the meeting, when it becomes available, will be kept in the FSIS Docket Room at room 102 Cotton Annex, 300 12th Street, SW., Washington, DC 20250-3700, and will represent public comments. FSIS welcomes comments on the topics to be discussed at the public meeting. Please send an original and two copies of comments to the FSIS Docket Clerk, Docket 03-031N, Room 102, Cotton Annex, Washington, DC 20250-3700. All comments and the official transcript, when it becomes available, will be kept in the FSIS Docket Room at the above address.

FOR FURTHER INFORMATION CONTACT: Dr. Nathan Bauer at (979) 260-9562.

There will be no pre-registration for this meeting. Persons requiring a sign language interpreter or other special accommodations should contact Sheila Johnson at (202) 690-6498, fax: (202) 690-6500, or e-mail: Sheila.johnson@fsis.usda.gov as soon as possible.

SUPPLEMENTARY INFORMATION: The scientific community continues to work with animal agriculture to investigate methods to reduce food safety risks through the use of specific production practices. Although much has been learned about the ecology of biological, chemical, and physical hazards during animal production, there are as of yet no specific production practices addressing biological hazards that consistently and predictably lead to improvement in food safety. Results are promising in some cases, and investigation of those avenues continues. A key point to recognize is that risk reduction interventions that can be expected will arise from those areas under research or from new areas that are added to the research agenda. It is important, therefore, for producers to be aware of the practices being explored, so that they can have input into the process and raise concerns about (1) areas that are not under investigation but that should be, (2) the economic impact of implementing new practices on the farm, and (3) the impact of food safety hazards on the marketability of their products.

To further pursue initiatives related to production practices, FSIS is holding a public meeting on pre-harvest food safety issues and E. coli O157:H7. The meeting has three goals.

The first goal is to determine whether interventions available to producers can form the basis for best management practices to reduce the load of E. coli O157:H7 in livestock before slaughter. The second goal is to identify promising interventions and determine what steps need to be taken to make the interventions available at the livestock production level. The third goal is to identify which research gaps should be the focus of the research community, including government, academia, and industry.

Based on the input from the conference, and any other information available to the Agency, FSIS will develop materials for producers that address pre-harvest food safety issues and E. coli O157:H7 and take other actions that appear to advance its food safety goals.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done in Washington, DC on August 27, 2003.
Garry L. McKee,
Administrator.

[FR Doc. 03-22297 Filed 8-29-03; 8:45 am]

BILLING CODE 3410-DM-P